OFFICE OF PERSONNEL MANAGEMENT

5 CFR Part 532

RIN 3206-AM82

Prevailing Rate Systems; Definition of Vanderburgh County, Indiana, to a Nonappropriated Fund Federal Wage System Wage Area

AGENCY: U.S. Office of Personnel Management.

ACTION: Final rule.

SUMMARY: The U.S. Office of Personnel Management (OPM) is issuing a final rule to define Vanderburgh County, IN, as an area of application county to the St. Clair, IL, nonappropriated fund (NAF) Federal Wage System (FWS) wage area. This change is necessary because there are two NAF FWS employees working in Vanderburgh County, and the county is not currently defined to a NAF wage area.

DATES: Effective date: This regulation is effective on October 1, 2013. Applicability date: This change applies on the first day of the first applicable pay period beginning on or after October 31, 2013.

FOR FURTHER INFORMATION CONTACT: Madeline Gonzalez, by telephone at (202) 606-2838 or by email at pay-leave-policy@opm.gov.

SUPPLEMENTARY INFORMATION: On May 21, 2013, OPM issued a proposed rule (78 FR 29657) to define Vanderburgh County, IN, as an area of application county to the St. Clair, IL, NAF FWS wage area. The Federal Prevailing Rate Advisory Committee, the national labor-management committee responsible for advising OPM on matters concerning the pay of FWS employees, reviewed and recommended this change by consensus. The proposed rule had a 30-day comment period, during which OPM received no comments.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
Elaine Kaplan,
Acting Director.

Accordingly, the U.S. Office of Personnel Management amends 5 CFR part 532 as follows:

PART 532—PREVAILING RATE SYSTEMS

1. The authority citation for part 532 continues to read as follows:

Authority: 5 U.S.C. 5343, 5346; § 532.707 also issued under 5 U.S.C. 552.

2. Appendix D to subpart B is amended by revising the wage area listing for the St. Clair, IL, NAF wage areas to read as follows:

Appendix D to Subpart B of Part 532—Nonappropriated Fund Wage and Survey Areas

* * * * *
ILLINOIS
* * * * *
St. Clair
Survey Area
Illinois:
St. Clair
Area of Application. Survey area plus:
Illinois:
Madison
Williamson
Indiana:
Vanderburgh
Missouri: (city)
St. Louis
Missouri: (counties)
Jefferson
Pulaski
* * * * *

[FR Doc. 2013-23865 Filed 9-30-13; 8:45 am]

BILLING CODE 6325-39-P